NATIONAL AERONAUTICS AND SPACE ADMINISTRATION

[Notice 07-069]

Government-Owned Inventions, Available for Licensing

AGENCY: National Aeronautics and Space Administration.

ACTION: Notice of availability of inventions for licensing.

SUMMARY: The inventions listed below assigned to the National Aeronautics and Space Administration, have been filed in the United States Patent and Trademark office, and are available for licensing.

DATES: September 26, 2007.

FOR FURTHER INFORMATION CONTACT: Linda B. Blackburn, Patent Counsel, Langley Research Center, Mail Code 141, Hampton, VA 23681-2199; telephone (757) 864-3221; fax (757) 864-9190.

NASA Case No. LAR-17315-1: Thermally Driven Piston Assembly and Position Control Therefor;

NASA Case No. LAR-17290-1: Multi-Modal Cockpit Interface for Improved Airport Surface Operations;

NASA Case No. LAR-17323-1: Method and Apparatus for Measuring Surface Air Pressure;

NASA Case No. LAR-17332-1: Jet Engine Exhaust Nozzle Flow Effector;

NASA Case No. LAR-16386-2: Carbon Nanotube Reinforced Porous Carbon Having Three-Dimensionally Ordered Porosity and Method of Fabricating Same.

Dated: September 19, 2007.
Keith T. Sefton,
Deputy General Counsel, Administration and Management.

[FR Doc. E7-18882 Filed 9-25-07; 8:45 am]

BILLING CODE 7510-13-P